DEPARTMENT OF HOMELAND SECURITY

U.S. Citizenship and Immigration Services

Agency Information Collection Activities: Extension of a Currently approved information Collection; Comment Request

ACTION: 30-Day Notice of Information Collection under Review: Interagency Record of Individual Requesting Change/Adjustment to or From A or G Status or Requesting A, G, or NATO dependent Employment Authorization; Form I-566; Control No. 1615-0027.

The Department of Homeland Security (DHS), U.S. Citizenship and Immigration Services (USCIS), has submitted the following information collection request to the Office of Management and Budget (OMB) for review and clearance in accordance with the Paperwork Reduction Act of 1995. The information collection was previously published in the Federal Register on July 26, 2006 at 71FR 42407, allowing for a 60-day public comment period. No comments were received on this information collection.

The purpose of this notice is to notify the public that the USCIS is seeking OMB approval on this information collection and to allow an additional 30 days for public comments. Comments are encouraged and will be accepted until November 13, 2006. This process is conducted in accordance with 5 CFR 1320.10.

Written comments and/or suggestions regarding the item(s) contained in this notice, especially regarding the estimated public burden and associated response time, should be directed to the Department of Homeland Security (DHS), and to the Office of Management and Budget (OMB) USCIS Desk Officer. Comments may be submitted to: USCIS, Director, Regulatory Management Division, Clearance Office, 111 Massachusetts Avenue, 3rd floor, Washington, DC 20529. Comments may also be submitted to DHS via facsimile to 202-272-8352 or via e-mail at rfs.regs@dhs.gov, and to the OMB USCIS Desk Officer via facsimile at 202-395-6974 or via e-mail at kastrich@omb.eop.gov.

When submitting comments by e-mail please make sure to add OMB Control Number 1615-0027. Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved information collection.

(2) Title of the Form/Collection: Interagency Record of Individual Requesting Change/Adjustment to or From A or G Status or Requesting A, G, or NATO Dependent Employment Authorization.

(3) Agency form number, if any, and the applicable component of the Department of Homeland Security sponsoring the collection: Form I-566. U.S. Citizenship and Immigration Services.

(4) Affected public who will be asked or required to respond, as well as a brief abstract: Primary: Individuals or households. The data on this form is used by Department of State (DOS) to certify to USCIS eligibility of dependents of A or G principals requesting employment authorization, as well as for North Atlantic Treaty Organization/Headquarters, Supreme Allied Commander Transformation (NATO/HQ SACT) to certify to USCIS similar eligibility for dependents of NATO principals. DOS also uses this form to certify to USCIS that certain, A, G or NATO nonimmigrants may change their status to another nonimmigrant status. USCIS, on the other hand, uses data on this form in the adjudication of change or adjustment of status applications from aliens in A, G, or NATO classifications, and following any such adjudication informs DOS of the results by use of this form.

(5) An estimate of the total number of respondents and the amount of time estimated for an average respondent to respond: 5,800 responses at 15 minutes (.250 hours) per response.

(6) An estimate of the total public burden (in hours) associated with the collection: 1,450 annual burden hours.

If you have additional comments, suggestions, or need a copy of the proposed information collection instrument with instructions, or additional information, please visit the USCIS Web site at: http://uscis.gov/graphics/formsfee/forms/pra/index.htm.

If additional information is required contact: USCIS, Regulatory Management Division, 111 Massachusetts Avenue, 3rd Floor Suite 3008, Washington, DC 20529, (202) 272-8377.

Dated: October 4, 2006.
Richard A. Sloan,
Director, Regulatory Management Division, U.S. Citizenship and Immigration Services, Department of Homeland Security.

[FR Doc. 06-8578 Filed 10-10-06; 8:45 am]

BILLING CODE 4410-10-M